SMALL BUSINESS ADMINISTRATION

[Disaster Declaration # 17536; Illinois Disaster Number IL-00070 Declaration of Economic Injury]

Administrative Declaration of an Economic Injury Disaster for the State of Illinois

AGENCY: Small Business Administration.

ACTION: Notice.

SUMMARY: This is a notice of an Economic Injury Disaster Loan (EIDL) declaration for the State of Illinois dated 07/25/2022.

Incident: Highland Park Parade Mass Shooting and Related Investigation.

Incident Period: 07/04/2022 through 07/10/2022.

DATES: Issued on 07/25/2022.

Economic Injury (EIDL) Loan Application Deadline Date: 04/25/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations.

The following areas have been determined to be adversely affected by the disaster:

Primary Counties: Lake.

Contiguous Counties:

Illinois: Cook, McHenry.

Wisconsin: Kenosha.

The Interest Rates are:

| Percent
Businesses and Small Agricultural Cooperatives without Credit Available Elsewhere | 2.935
Non-Profit Organizations without Credit Available Elsewhere | 1.875

The number assigned to this disaster for economic injury is 175360.

The States which received an EIDL Declaration #17536 are Illinois, Wisconsin.

(Catalog of Federal Domestic Assistance Number 59008)

Isabella Guzman,
Administrator.

[FR Doc. 2022-16400 Filed 7-29-22; 8:45 am]

BILLING CODE 8026-09-P